DEPARTMENT OF COMMERCE

International Trade Administration

[A-489-807]

Certain Steel Concrete Reinforcing Bars from Turkey; Notice of Extension of Time Limits for Final Results of Antidumping Duty Administrative Review

Import Administration, International Trade Administration, Department of Commerce.

EFFECTIVE DATE: August 12, 2005.

FOR FURTHER INFORMATION CONTACT: Irina Itkin or Greg Kalbaugh, AD/CVD Operations, Office 2, Import Administration, International Trade Administration, U.S. Department of Commerce, 14th Street and Constitution Avenue, NW., Washington, DC 20230; telephone (202) 482-0656 and (202) 482-3693, respectively.

SUPPLEMENTARY INFORMATION:

Background

The Department of Commerce (the Department) published an antidumping duty order on certain steel concrete reinforcing bars (rebar) from Turkey on April 17, 1997 (See Antidumpting Duty Order: Certain Steel Concrete Reinforcing Bars From Turkey, 62 FR 18748). On May 21, 2004, the Department published a notice of initiation of an administrative review of the order on rebar from Turkey for the period April 1, 2003, through March 31, 2004. See 69 FR 30282. The respondents in this administrative review are: Colakoglu Metalurji A.S.; Diler Demir Celik Endustrisi ve Ticaret A.S., Yazici Demir Celik Sanayi ve Ticaret A.S., and Diler Dis Ticaret A.S. (collectively, Diler); Habas Tibbi ve Sinai Gazlar Istihsal Endustrisi A.S.; and ICDAS Celik Enerji Tersane ve Ulasim Sanayi, A.S. (ICDAS). On May 6, 2005, the Department published in the Federal Register its preliminary results. See Certain Steel Concrete Reinforcing Bars from Turkey; Preliminary Results and Partial Rescission of Antidumping Duty Administrative Review and Notice of Intent To Revoke in Part, 70 FR 23990. The final results are currently due no later than September 3, 2005.

Extension of the Time Limit for Final Results of Administrative Review

Section 751(a)(3)(A) of the Tariff Act of 1930, as amended (the Act) requires the Department to make a final determination in an administrative review within 120 days after the date on which the preliminary determination is published. However, if it is not practicable to complete the review within this time period, section 751(a)(3)(A) of the Act allows the Department to extend the time limit for the final results to 180 days (or 300 days if the Department does not extend the time limit for the preliminary results) from the date of publication of the preliminary results.

In accordance with section 751(a)(3)(A) of the Act, and 19 CFR 351.213(h)(2), the Department finds that it is not practicable to complete the review within the original time frame because it involves a number of complicated issues for certain of the respondents, including the determination of the appropriate cost averaging periods, date of sale, and affiliated producers. Moreover, one respondent, ICDAS, has requested revocation in this review. Analysis of these issues requires additional time. Because it is not practicable to complete this administrative review within the time limit mandated by section 751(a)(3)(A) of the Act and 19 CFR 351.213(h)(2), the Department is fully extending the time limit for completion of the final results of this administrative review to 180 days, until November 2, 2005.

This notice is issued and published in accordance with section 751(a)(3)(A) of the Act.

Dated: August 8, 2005.
Barbara E. Tillman,
Acting Deputy Assistant Secretary for Import Administration.

[FR Doc. E5-4386 Filed 8-11-05; 8:45 am]

BILLING CODE 3510-DS-S